ENVIRONMENTAL PROTECTION AGENCY

[EPA-HQ-OA-2012-0033; FRL-9527-8]

Information Collection Request Submitted to OMB for Review and Approval; Comment Request; Willingness To Pay Survey for Chesapeake Bay Total Maximum Daily Load: Instrument, Pre-Test, and Implementation

AGENCY: Environmental Protection Agency (EPA).

ACTION: Notice.

SUMMARY: The Environmental Protection Agency has submitted an information collection request (ICR), “Willingness to Pay Survey for Chesapeake Bay Total Maximum Daily Load: Instrument, Pre-test, and Implementation” (EPA ICR No. 2456.01, OMB Control No. 2010-NEW) to the Office of Management and Budget (OMB) for review and approval in accordance with the Paperwork Reduction Act (44 U.S.C. 3501 et seq.). This is a request for approval of a new collection. Public comments were previously requested via the Federal Register (77 FR 31006) on May 24, 2012 during a 60-day comment period, which was later extended for an additional 30 days (77 FR 43822). This notice allows for an additional 30 days for public comments. A fuller description of the ICR is given below, including its estimated burden and cost to the public. An Agency may not conduct or sponsor and a person is not required to respond to a collection of information unless it displays a currently valid OMB control number.

DATES: Additional comments may be submitted on or before March 11, 2013.

ADDRESSES: Submit your comments, referencing Docket ID Number EPA-HQ-OA-2012-0033, to (1) EPA online using www.regulations.gov (our preferred method); by email to oei.docket@epa.gov; by fax at (202) 566-9744; or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Dr. Nathalie Simon, National Center for Environmental Economics, Office of Policy, (1809T), Environmental Protection Agency, 1200 Pennsylvania Ave. NW., Washington, DC 20460; telephone number: 202-566-2347; fax number: 202-566-2363; email address: simon.nathalie@epa.gov.

SUPPLEMENTARY INFORMATION: Supporting documents which explain in detail the information that the EPA will be collecting are available in the public docket for this ICR. The docket can be viewed online at www.regulations.gov or in person at the EPA Docket Center, EPA West, Room 3334, 1301 Constitution Ave., NW. Washington, DC. The telephone number for the Docket Center is 202-566-1744. For additional information about EPA's public docket, visit http://www.epa.gov/dockets.

Abstract: The Clean Water Act (CWA) directs EPA to coordinate Federal and State efforts to improve water quality in the Chesapeake Bay. In 2009, Executive Order (E.O.) 13508 reemphasized this mandate, directing EPA to define the next generation of tools and actions to restore water quality in the Bay and describe the changes to be made to regulations, programs, and policies to implement these actions. The Chesapeake Bay watershed encompasses 64,000 square miles in parts of six states and the District of Columbia. It is the largest estuary in the United States and the third largest in the world. The Chesapeake Bay's unique set of ecological and cultural elements has motivated efforts to preserve and restore its condition for more than 25 years. Significant progress has been made over that period however, pollution budgets, called Total Maximum Daily Loads (TMDLs), are necessary to continue progress toward the goal of a healthy Bay. The watershed states of New York, Pennsylvania, Delaware, West Virginia, Virginia, and Maryland, as well as the District of Columbia, have developed Watershed Implementation Plans (WIPs) detailing the steps each will take to meet its obligations under the TMDL.

As part of the next phase of this effort, EPA is undertaking an assessment of the costs and benefits of meeting Total Maximum Daily Loads (TMDLs), of nitrogen, phosphorus, and sediment for the Chesapeake Bay. As an input to the TMDL benefits study, EPA's National Center for Environmental Economics (NCEE) is seeking approval to conduct a stated preference survey to collect data on households' use of Chesapeake Bay and its watershed, preferences for a variety of water quality improvements likely to follow from pollution reduction programs, and demographic information. If approved, the survey would be administered by mail in two phases to a sample of 9,140 residents living in the Chesapeake Bay states, Chesapeake Bay watershed, and other east coast states.

Benefits from meeting the TMDL for the Chesapeake Bay will accrue to those who live near the Bay or visit for recreation, those who live near or visit lakes and rivers in the watershed, and those who live further away and/or may never visit the Bay but have a general concern for the environment. While benefits from the first two categories can be measured using hedonic property value, recreational demand, and other revealed preference approaches, only stated preference methods can capture nonuse benefits (i.e., benefits to those who may never visit the Bay).

Transferring estimates from other studies based in other estuaries is not advised as these results are unlikely to accurately or completely capture willingness to pay for TMDL-related improvements in the Chesapeake Bay Watershed given the unique character of this water resource and the goods and services it provides. Further, there are limited stated preference studies in the published literature focusing on the Chesapeake Bay, and no studies specifically addressing the environmental improvements predicted under the TMDL. This study will provide policy makers with additional information on the public's preferences for improvements to the Chesapeake Bay and lakes in the watershed. NCEE will use the survey responses to estimate willingness to pay for changes related to reductions in nitrogen, phosphorous, and sediment loadings to the Bay and lakes in the Chesapeake Bay watershed. The analysis relies on state of the art theoretical and statistical tools for non-market welfare analysis. The results of this study will inform the public and policy makers about the benefits of improvements to the Chesapeake Bay and lakes in the watershed. A non-response survey will also be administered to inform the interpretation and validation of survey responses. Participation in the survey will be voluntary and the identity of the respondents will be kept confidential to the extent provided by law.

The project is being undertaken pursuant to section 104 of the Clean Water Act which authorizes and directs the EPA Administrator to conduct research into a number of subject areas related to water quality, water pollution, and water pollution prevention and abatement. This section also authorizes the EPA Administrator to conduct research into methods of analyzing the costs and benefits of programs carried out under the Clean Water Act.

Form Numbers: None.

Respondents/affected entities: Individuals 18 years of age or older residing in one of 17 east coast U.S. states and the District of Columbia.

Respondent's obligation to respond: Voluntary.

Estimated number of respondents: 2,742 total to full survey total (includes 150 from pretest and 2,592 from main survey. An additional 770 total to non-response follow-up survey (50 from pretest and 720 from full survey administration).

Frequency of response: One time collection.

Total estimated burden: 887 hours. Burden is defined at 5 CFR 1320.03(b).

Total estimated cost: $20,682 (per year), includes $0 annualized capital or operation & maintenance costs.

John Moses,
Director, Collection Strategies Division.

[FR Doc. 2013-02763 Filed 2-6-13; 8:45 am]

BILLING CODE 6560-50-P